CORPORATION FOR NATIONAL AND COMMUNITY SERVICE

Sunshine Act Meeting Notice

The Board of Directors of the Corporation for National and Community Service gives notice of the following meeting:

DATE AND TIME: Tuesday, December 17, 2013, 9:00-10:00 a.m. (ET).

PLACE: Corporation for National and Community Service, 1201 New York Avenue NW., Suite 8312, Washington, DC 20525 (Please go to 10th floor reception area for escort).

CALL-IN INFORMATION: This meeting is available to the public through the following toll-free call-in number: 888-790-1832 conference call access code number 4386716. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 888-566-0076, replay passcode 6617. The end replay date is December 24, 2013, 10:59 p.m. (CT).

STATUS: Open.

MATTERS TO BE CONSIDERED:

I. Chair's Opening Comments

a. Call to Order, Welcome, and Preview of Today's Meeting Agenda

b. Introduction and Acknowledgements

c. Summary Status of Board Interaction

II. Committee Reports

III. Consideration of Previous Meeting's Minutes

IV. CEO Report

V. Acknowledgement of Board Member Transitions

VI. Discussions, Deliberations and Official Actions

VII. Public Comments

VIII. Final Comments and Adjournment

Members of the public who would like to comment on the business of the Board may do so in writing or in person. Individuals may submit written comments to jmauk@cns.gov subject line: DECEMBER 2013 CNCS BOARD MEETING by 4:00 p.m. (ET) on December 13, 2013. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify Ida Green at igreen@cns.gov or 202-606-6861 by 5 p.m. (ET) on December 13, 2013.

CONTACT PERSON FOR MORE INFORMATION: Jenny Mauk, Special Assistant to the CEO, Corporation for National and Community Service, 1201 New York Avenue NW., Washington, DC 20525. Phone: 202-606-6615. Fax: 202-606-3460. TTY: 800-833-3722. Email: jmauk@cns.gov.

Dated: December 11, 2013.
Valerie Green,
General Counsel.

[FR Doc. 2013-29912 Filed 12-12-13; 11:15 am]

BILLING CODE 6050-28-P